DEPARTMENT OF DEFENSE

Office of the Secretary

Sunshine Act; Defense Task Force on Sexual Assault in the Military Services

AGENCY: Office of the Assistant Secretary of Defense (Personnel and Readiness); DoD.

ACTION: Notice of meeting cancellation.

SUMMARY: On March 12, 2007 (72 FR 10988), the Department of Defense announced a meeting on Defense Task Force on Sexual Assault in the Military Services. Pursuant to the Federal Advisory Committee Act of 1972 (5 U.S.C., Appendix, as amended), the Sunshine in the Government Act of 1976 (5 U.S.C. 552b, as amended), and 41 CFR 102-3.150 and 160, the following meeting cancellation notice is announced:

Name of Committee: Defense Task Force on Sexual Assault in the Military Services (hereafter referred to as the Task Force).

Date: March 19, 2007 through March 21, 2007.

Time: 8:30 a.m. to 5 p.m.

Location: Marshall Hall, National Defense University; Fort McNair, Washington, DC 20319-5066.

Purpose of the Meeting: The purpose of the administrative and preparatory working meeting is to: (a) Discuss administrative matters of the Task Force; (b) receive administrative information from the Department of Defense; and (c) received background information from the Task staff, in preparation of the Task Force's first public meeting.

The administrative working meeting at Marshall Hall from 8:30 a.m. to 12 p.m. on Monday, March 19, 2007, was cancelled on March 15, 2007 and is to be rescheduled to a later to be determined date.

The preparatory working meetings at Marshall Hall from (a) 1:30 p.m. to 5 p.m. on Monday March 19, 2007; and (b) 8:30 a.m. to 12 p.m., and 1:30 p.m. to 5 p.m. on Tuesday and Wednesday March 20 and 21, 2007, were cancelled on March 15, 2007 and are to be rescheduled to a later to be determined date.

The decision to cancel the meeting was too close in time, March 15, 2007, to the start date, March 19, 2007, of the scheduled March 19, 2007 through March 21, 2007 meetings for the publication of a forward looking Notice of cancellation in the Federal Register.

FOR FURTHER INFORMATION CONTACT: Lieutenant Shaka Thorne, U.S. Navy, Designated Federal Officer, Defense Task Force on Sexual Assault in Military Services, 2850 Eisenhower Ave., Suite 100, Alexandria, Virginia 22314. Telephone: (703) 325-6640, Fax: (703) 325-6710/6711, DSN# 221, shaka.thorne@wso.whs.mil

Dated: March 20, 2007.
L.M. Bynum,
Alternate OSD Federal Register Liaison Officer, Department of Defense.

[FR Doc. 07-1493 Filed 3-23-07; 11:16 am]

BILLING CODE 5001-06-M